DEPARTMENT OF HEALTH AND HUMAN SERVICES

Agency for Toxic Substances and Disease Registry

Statement of Organization, Functions, and Delegations of Authority

Part J (Agency for Toxic Substances and Disease Registry) of the Statement of Organization, Functions, and Delegations of Authority of the Department of Health and Human Services (50 FR 25129-25130, dated June 17, 1985, as amended most recently at 82 FR 42555, dated September 8, 2017) is amended to reflect the Order of Succession for the Agency for Toxic Substances and Disease Registry.

Section J-C, Order of Succession:

Delete in its entirety the Section J-C, Order of Succession, and insert the following:

During the absence or disability of the Administrator, Agency for Toxic Substances and Disease Registry (ATSDR), or in the event of a vacancy in that office, the first official listed below who is available shall act as Administrator, except during a planned period of absence, the Administrator may specify a different order of succession:

1. Assistant Administrator, ATSDR

2. Deputy Director for Non-Infectious Diseases

3. Principal Deputy Director

4. Chief Medical Officer

5. Director, Center for Preparedness and Response

Sherri A. Berger,
Chief Operating Officer, Centers for Disease Control and Prevention.

[FR Doc. 2019-26494 Filed 12-9-19; 8:45 am]

BILLING CODE 4163-70-P